DEPARTMENT OF COMMERCE

United States Patent and Trademark Office

Agency Information Collection Activities; Submission to the Office of Management and Budget (OMB) for Review and Approval; Comment Request; Public Search Facility User ID and Badging

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on April 16, 2021 during a 60-day comment period. This notice allows for an additional 30 days for public comments.

Agency: United States Patent and Trademark Office, Department of Commerce.

Title: Public Search Facility User ID and Badging.

OMB Control Number: 0651-0041.

Form Numbers:

• PTO-2030 (Application for Public User ID).

• PTO-2224 (Security Identification Badges for Public Users).

Type of Review: Extension and revision of a currently approved information collection.

Estimated Number of Respondents: 5,525 respondents per year.

Estimated Number of Responses: 5,925 responses per year.

Estimated Time per Response: The USPTO estimates that it will take the public approximately 5 minutes (0.08 hours) to complete the information in this information collection, depending on the form. This includes the time to gather the necessary information, prepare the appropriate form, and submit the completed item to the USPTO.

Estimated Total Annual Respondent Burden Hours: 474 hours.

Estimated Total Annual Non-Hour Cost Burden: $1,505.

Needs and Uses: The United States Patent and Trademark Office (USPTO) is required by 35 U.S.C. 41(i)(1) to maintain a Public Search Facility to make publicly accessible USPTO patent and trademark collections for search and retrieval. The Public Search Facility is located in a publicly accessible portion of USPTO headquarters in Alexandria, Virginia, and offers the public access to the collection's paper, microfilm, and electronic files and trained staff to assist users with searches. The USPTO also offers training courses to assist users with the advanced electronic search systems available at the facility.

This information collection covers information collected in applications required for those members of the public who wish to use the electronic search systems at the Public Search Facility to establish a USPTO online access account, and to obtain, renew, or replace online access accounts. The public may apply for an online access account at the Public Search Facility reference desk by providing the necessary information and proper identification. The access account includes a bar-coded user number and an expiration date. Users may renew their account by validating and updating the required information and may obtain a replacement for a lost account information by providing proper identification. Users who wish to register for the voluntary training courses may do so by completing the appropriate form.

This information collection also covers information in applications to establish, renew, or replace security identification badges issued, under the authority provided in 41 CFR part 102-81, to members of the public who wish to access the Public Search Facility. Users may apply for a security badge in-person at the USPTO Security Office by providing the necessary information and presenting a valid form of identification with photograph. A security badge includes a color photograph of the user and must be worn at all times while within the USPTO facilities.

Affected Public: Individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0041.

Further information can be obtained by:

• Email: InformationCollection@uspto.gov. Include “0651-0041 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-13502 Filed 6-24-21; 8:45 am]

BILLING CODE 3510-16-P